DEPARTMENT OF HOMELAND SECURITY

Federal Emergency Management Agency

[Docket ID FEMA-2018-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 16, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov. The flood hazard determinations are made final in the watersheds and/or communities listed in the table below.

(Catalog of Federal Domestic Assistance No. 97.022, “Flood Insurance.”)

Dated: April 3, 2018.
Roy E. Wright,
Deputy Associate Administrator for Insurance and Mitigation, Department of Homeland Security, Federal Emergency Management Agency.

Community | Community map repository address
Limestone County, Alabama and Incorporated Areas Docket No.: FEMA-B-1655
City of Athens | Engineering and Community Development Department, 1600 Elm Street West, Athens, AL 35611.
City of Decatur | Building Department, 402 Lee Street Northeast, 4th Floor, Decatur, AL 35601.
City of Huntsville | City Hall, 308 Fountain Circle, Huntsville, AL 35801.
City of Madison | Engineering Department, 100 Hughes Road, Madison, AL 35758.
Town of Ardmore | Town Hall, 26494 1st Street, Ardmore, AL 35739.
Town of Mooresville | Limestone County Engineering Department, 310 West Washington Street, Athens, AL 35611.
Unincorporated Areas of Limestone County | Limestone County Engineering Department, 310 West Washington Street, Athens, AL 35611.
Madison County, Alabama and Incorporated Areas Docket No.: FEMA-B-1655
City of Huntsville | City Hall, 308 Fountain Circle, Huntsville, AL 35801.
City of New Hope | City Hall, 5496 Main Drive, New Hope, AL 35760.
Town of Triana | Town Hall, 640 6th Street, Triana, AL 35756.
Unincorporated Areas of Madison County | Madison County Department of Public Works, Engineering Department, 266-C Shields Road, Huntsville, AL 35811.
Morgan County, Alabama and Incorporated Areas Docket No.: FEMA-B-1655
City of Decatur | Building Department, 402 Lee Street Northeast, 4th Floor, Decatur, AL 35601.
City of Hartselle | City Hall, 200 Sparkman Street Northwest, Hartselle, AL 35640.
Town of Falkville | Town Hall, 21 North 1st Avenue, Falkville, AL 35622.
Town of Priceville | Town Hall, 242 Marco Drive, Priceville, AL 35603.
Town of Somerville | Town Hall, 24 High Street, Somerville, AL 35670.
Town of Trinity | Town Hall, 35 Preston Drive, Trinity, AL 35673.
Unincorporated Areas of Morgan County | Morgan County Engineer's Office, 580 Shull Road Northeast, Hartselle, AL 35640.
Chatham County, Georgia and Incorporated Areas Docket No.: FEMA-B-1701
City of Bloomingdale | City Hall, 8 West Highway 80, Bloomingdale, GA 31302.
City of Garden City | City Hall, 100 Central Avenue, Garden City, GA 31405.
City of Pooler | City Hall, 100 Southwest Highway 80, Pooler, GA 31322.
City of Port Wentworth | City Hall, 305 South Coastal Highway, Port Wentworth, GA 31407.
City of Savannah | Department of Development Services, 5515 Abercorn Street, Savannah, GA 31405.
City of Tybee Island | City Hall, 403 Butler Avenue, Tybee Island, GA 31328.
Town of Thunderbolt | Town Hall, 2821 River Drive, Thunderbolt, GA 31404.
Town of Vernonburg | Office of the Town of Vernonburg Mayor, 110 East President Street, 2nd Floor, Savannah, GA 31401.
Unincorporated Areas of Chatham County | Old Chatham County Courthouse, 124 Bull Street, Room 430, Savannah, GA 31401.
Brown County, Illinois and Incorporated Areas Docket No.: FEMA-B-1707
Unincorporated Areas of Brown County | Brown County Courthouse, 200 West Court Street, Mount Sterling, IL 62353.
Pike County, Illinois and Incorporated Areas Docket No.: FEMA-B-1707
Unincorporated Areas of Pike County | Pike County Government Building, 121 East Washington Street, Pittsfield, IL 62363.
Village of Perry | Perry Village Hall, 210 West Main Street, Perry, IL 62362.
Abbeville County, South Carolina and Incorporated Areas Docket No.: FEMA-B-1708
Unincorporated Areas of Abbeville County | Abbeville County Administrative Complex, 903 West Greenwood Street, Suite 2100, Abbeville, SC 29620.
Aiken County, South Carolina and Incorporated Areas Docket No.: FEMA-B-1708
City of North Augusta | Municipal Center, 100 Georgia Avenue, North Augusta, SC 29841.
Unincorporated Areas of Aiken County | Aiken County Planning and Development Department, 1930 University Parkway, Suite 2800, Aiken, SC 29801.

[FR Doc. 2018-09076 Filed 4-27-18; 8:45 am]

BILLING CODE 9110-12-P